FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Speedy International, LLC., 451 Victory Avenue, Suite 6, So. San Francisco, CA 94080, Officers: Hoon Kim, Operations Supervisor (Qualifying Individual), Michael Chan, Manager.

Pudong Prime International Logistics, Inc., 17595 Almahurst Road, #201, City of Industry, CA 91748, Officers: Ying Hu, Secretary (Qualifying Individual), Jian Wang, Director/President.

UIA Worldwide Logistics, Inc., 2100 Huntington Drive, Suite 7, San Marino, CA 91108, Officers: Theodore Wayne Quan, Vice President (Qualifying Individual), Jack Ling, President.

Topocean Consolidation Service (Seattle) Inc., 15215 52nd Avenue So., Suite 21, Tulwila, WA 98188, Officers: Michael C. Owens, Vice President (Qualifying Individual), Vic Cheung, President.

Seoil Agency Co. U.S.A., Inc., 2150 N. 107th Street, Suite 170, Seattle, WA 98133, Officer: Myeongjong Kim, President (Qualifying Individual).

California Freight System, Inc., 601 W. Carob Street, Compton, CA 90220, Officers: Jong Wook Lim, President/CEO (Qualifying Individual), J. H. Chang, Director.

Formerica Consolidation Service, Inc., 144-37 156 Street, 2nd Floor, Jamaica, NY 11434, Officers: Peter C. Chiu, President (Qualifying Individual), Ami Wey, Secretary.

Form Logistics Inc., 20 W. Lincoln Avenue, #302, Valley Stream, NY 11580, Officers: Cheng Hsia, Vice President (Qualifying Individual), Tung Shen Wang, President.

Dimex Consulting, Inc., 118 W. Hazel Street, Suite A, Inglewood, CA 90302, Officer: Diem T. Nguyen, Owner.

Non-Vessel Operating Common Carrier and Ocean Freight Forwarder Transportation Intermediary Applicants

Angel's Maritime Services Inc., 6630 Hawin Drive, Suite #108, Houston, TX 77036, Officer: John Ola Coker, President (Qualifying Individual).

United Nation Transportation LLC, 3208 Chico Avenue, El Monte, CA 91733, Officer: Jeff Mangkareth Insixiengmay, President (Qualifying Individual).

ACS Cargo Systems, Inc. dba Expedite America Express, 2688 Coyle Lane, Elk Groove Village, IL 60007, Officers: Steven J. Ellis, Director (Qualifying Individual), Joseph W. Ellis, Treasurer.

Interport Services Corp., 8501 N.W. 17th Street, Miami, FL 33126, Officers: Alberto J. Marino, President (Qualifying Individual), Ivette C. Marino, Secretary.

Ocean Freight Forwarder—Ocean Transportation Intermediary Applicants

Logical Solution Services, Inc., 14 Emory Street, Howell, NJ 07731, Officer: Victor Cruz, President (Qualifying Individual).

Global Logistics Freight, Inc., 275 North Central Avenue, Valley Stream, NY 11580, Officer: Maria DeFilippis, President (Qualifying Individual).

Fox Freight Forwarders, Inc., 3727 NW 52nd Street, Miami, FL 33142, Officer: Maria S. Hugues, President (Qualifying Individual).

Dated: March 21, 2003.
Bryant L. VanBrakle,
Secretary.

[FR Doc. 03-7290 Filed 3-26-03; 8:45 am]

BILLING CODE 6730-01-P